FEDERAL COMMUNICATIONS COMMISSION

47 CFR Part 0

[WT Docket No. 15-81; FCC 15-40]

Electronically Stored Application and Licensing Data

AGENCY: Federal Communications Commission.

ACTION: Proposed rule.

SUMMARY: This document proposes to amend the Commission's Rules to specify that historical amateur radio licensee address information will not be routinely available for public inspection.

DATES: Submit comments on or before June 16, 2015 and reply comments are due July 16, 2015.

ADDRESSES: You may submit comments, identified by WT Docket No. 15-81; FCC 15-40, by any of the following methods:

• Federal eRulemaking Portal: http://www.regulations.gov. Follow the instructions for submitting comments.

• Federal Communications Commission's Web site: http://www.fcc.gov/cgb/ecfs/. Follow the instructions for submitting comments.

• People with Disabilities: Contact the FCC to request reasonable accommodations (accessible format documents, sign language interpreters, CART, etc.) by email: FCC504@fcc.gov or phone 202-418-0530 or TTY: 202-418-0432.

For detailed instructions for submitting comments and additional information on the rulemaking process, see the SUPPLEMENTARY INFORMATION section of this document.

FOR FURTHER INFORMATION CONTACT: Scot Stone, at Scot.Stone@fcc.gov, Mobility Division, Wireless Telecommunications Bureau, (202) 418-0638, TTY (202) 418-7233.

SUPPLEMENTARY INFORMATION: This is a summary of the Federal Communications Commission's Notice of Proposed Rulemaking (NPRM), WT Docket No. 15-81; FCC 15-40, adopted March 31, 2015, and released March 31, 2015. The full text of this document is available for inspection and copying during normal business hours in the FCC Reference Center, 445 12th Street SW., Room CY-A257, Washington, DC 20554, or by downloading the text from the Commission's Web site at www.fcc.gov. Alternative formats are available for people with disabilities (Braille, large print, electronic files, audio format), by sending an email to FCC504@fcc.gov or calling the Consumer and Government Affairs Bureau at (202) 418-0530 (voice), (202) 418-0432 (TTY).

Summary

1. The Commission initiated this proceeding to amend its rules of organization that apply to amateur radio licensee address information that is routinely available for public inspection. Specifically, the Commission proposes in this NPRM to amend its rules to revise its rules to specify that historical amateur radio licensee address information (that is, address information not associated with a current license or pending application) will not be routinely available for public inspection. The Commission found that amending these rules will enhance amateur radio operators' privacy without undermining the public interest in knowing who is authorized to operate on amateur spectrum. The Commission also seeks comment on whether this approach should be extended to individual licensees in any other Wireless Radio Services, such as the General Mobile Radio Service, commercial radio operator licensees, and individuals who hold ship station and/or aircraft station licenses.

I. Procedural Matters

A. Ex Parte Rules—Permit-but-Disclose Proceeding

2. This is a permit-but-disclose notice and comment rulemaking proceeding. Ex parte presentations are permitted, except during the Sunshine Agenda period, provided they are disclosed as provided in the Commission's rules.

B. Comment Dates

3. Pursuant to §§ 1.415 and 1.419 of the Commission's rules, interested parties may file comments on or before June 16, 2015, and reply comments are due July 16, 2015.

4. Commenters may file comments electronically using the Commission's Electronic Comment Filing System (ECFS), the Federal Government's eRulemaking Portal, or by filing paper copies. Commenters filing through the ECFS can be sent as an electronic file via the Internet to http://www.fcc.gov/e-file/ecfs.html. If multiple docket or rulemaking numbers appear in the caption of this proceeding, filers must transmit one electronic copy for each docket or rulemaking number referenced in the caption. In completing the transmittal screen, commenters should include their full name, U.S. Postal Service mailing address, and the applicable docket or rulemaking number. Commenters may also submit an electronic comment by Internet email. To get filing instructions for email comments, commenters should send an email to ecfs@fcc.gov, and should include the following words in the body of the message, “get form.” Commenters will receive a sample form and directions in reply. Commenters filing through the Federal eRulemaking Portal http://www.regulations.gov, should follow the instructions provided on the Web site for submitting comments.

5. Commenters who chose to file paper comments must file an original and four copies of each comment. If more than one docket or rulemaking number appears in the caption of this proceeding, filers must submit two additional copies for each additional docket or rulemaking number. All filings must be sent to the Commission's Secretary, Office of the Secretary, Federal Communications Commission, 445 12th Street SW., Room TW-A325, Washington, DC 20554.

6. Commenters may send filings by hand or messenger delivery, by commercial overnight courier, or by first-class or overnight U.S. Postal Service mail. The Commission's contractor will receive hand-delivered or messenger-delivered paper filings for the Commission's Secretary at 445 12th Street SW., Washington, DC 20554. Commenters must bind all hand deliveries together with rubber bands or fasteners and must dispose of any envelopes before entering the building. This facility is the only location where the Commission's Secretary will accept hand-delivered or messenger-delivered paper filings. Commenters must send commercial overnight mail (other than U.S. Postal Service Express Mail and Priority Mail) to 9300 East Hampton Drive, Capitol Heights, MD 20743. Commenters should address U.S. Postal Service first-class mail, Express Mail, and Priority Mail to 445 12th Street SW., Washington, DC 20554.

C. Paperwork Reduction Act

7. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

II. Initial Regulatory Flexibility Analysis

8. The Regulatory Flexibility Act requires an initial regulatory flexibility analysis to be prepared for notice and comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

9. In the NPRM, we propose to amend the Commission's rules of organization. In this NPRM, we propose to amend the Commission's inspection of records rules to provide that only amateur radio licensee address information connected with current licenses and pending applications is routinely available for public inspection in ULS or in paper files. Because “small entities,” as defined in the RFA, do not include a “person” as the term is used in this proceeding or an individual, the proposed rules do not apply to “small entities.” Rather, they apply exclusively to individuals who are licensees of certain stations or who hold certain Commission authorizations. Therefore, we certify that the proposals in this NPRM, if adopted, will not have a significant economic impact on a substantial number of small entities.

III. Ordering Clauses

11. Accordingly, it is ordered, pursuant to sections 4(i), 303(r), and 403 of the Communications Act of 1934, 47 U.S.C. 154(i), 303(r), and 403, that this Notice of Proposed Rulemaking is hereby adopted.

12. The Commission's Consumer and Governmental Affairs Bureau, Reference Information Center, shall send a copy of this Notice of Proposed Rulemaking, including the Initial Regulatory Flexibility Certification, to the Chief Counsel for Advocacy of the Small Business Administration.

List of Subjects in 47 CFR Part 0

Organization and functions.

Federal Communications Commission.
Marlene H. Dortch,
Secretary.

Proposed Rules

For the reasons discussed in the preamble, the Federal Communications Commission proposes to amend 47 CFR part 0 as follows:

PART 0—COMMISSION ORGANIZATION

1. The authority citation for part 0 continues to read as follows:

Authority: Sec. 5, 48 Stat. 1068, as amended; 47 U.S.C. 155, 225, unless otherwise noted.

2. Section 0.453 is amended by revising paragraphs (d) introductory text and (d)(4) to read as follows:

§ 0.453 Public reference rooms.

* * * * *

(d) Wireless Telecommunications Services and Auction related data as follows, except to the extent they are excluded from routine public inspection under another section of this chapter:

* * * * *

(4) Electronically stored application and licensing data (including data filed manually and entered into ULS by Commission staff) for commercial radio operators and for all authorizations in the Wireless Radio Services are available for public inspection via the Commission's Web site, http://wireless.fcc.gov/uls. Wireless Radio services include Commercial and Private Mobile Radio, Common Carrier and Private Operational Fixed point-to-point Microwave, Local Television Transmission Service (LTTS), Digital Electronic Message Service (DEMS), Aviation Ground and Marine Coast applications; and

* * * * *

3. Section 0.457 is amended by revising paragraph (f) to read as follows:

§ 0.457 Records not routinely available for public inspection.

* * * * *

(f) Personnel, medical and other files whose disclosure would constitute a clearly unwarranted invasion of personal privacy, 5 U.S.C. 552(b)(6). (1) Under E.O. 10561, the Commission maintains an Official Personnel Folder for each of its employees. Such folders are under the jurisdiction and control, and are a part of the records, of the U.S. Office of Personnel Management. Except as provided in the rules of the Office of Personnel Management (5 CFR 293.311), such folders will not be made available for public inspection by the Commission. In addition, other records of the Commission containing private, personal or financial information concerning particular employees and Commission contractors will be withheld from public inspection.

(2) With respect to the Amateur Radio Service as that term is defined in § 97.3(a) of this chapter, address information on expired, canceled, or terminated licenses; archived versions of active licenses; and processed applications will not be made available for public inspection by the Commission. For such licensees, disclosure of an individual's historical address information is considered clearly unwarranted invasion of personal privacy.

* * * * *

[FR Doc. 2015-08810 Filed 4-16-15; 8:45 am]

BILLING CODE 6712-01-P